DEPARTMENT OF THE TREASURY

Submission for OMB Review; Comment Request

September 19, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before October 26, 2000 to be assured of consideration.

Bureau of Alcohol, Tobacco and Firearms (BATF)

OMB Number: 1512-0017.

Form Number: ATF F 6 Part I (5330.3A).

Type of Review: Extension.

Title: Application and Permit for Importation of Firearms, Ammunition and Implements of War.

Description: This information collected is needed to determine whether firearms, ammunition and implements of war are eligible for importation into the United States. Used to secure authorization to import such articles. All persons who desire to import such articles except for persons who are members of the United States Armed Forces.

Respondents: Individuals or households, Business or other for-profit, Federal Government, State, Local or Tribal Government.

Estimated Number of Respondents: 9,000.

Estimated Burden Hours Per Respondent: 30 minutes.

Frequency of Response: On occasion.

Estimated Total Reporting Burden: 4,500 hours.

OMB Number: 1512-0019.

Form Number: ATF Form 6A (5330.3C).

Type of Review: Extension.

Title: Release and Receipt of Imported Firearms, Ammunition and Implements of War.

Description: This information collection is needed to verify importation of firearms, ammunition and implements of war. ATF Form 6A is completed by Federal firearms licensees, active duty military members, nonresident U.S. citizens returning to the U.S. and aliens immigrating to the United States.

Respondents: Individuals or households.

Estimated Number of Respondents: 20,000.

Estimated Burden Hours Per Respondent: 24 minutes.

Frequency of Response: On occasion.

Estimated Total Reporting Burden: 8,000 hours.

OMB Number: 1512-0119.

Form Number: ATF F 5200.14 (2149/2150).

Type of Review: Extension.

Title: Notice of Removal of Tobacco Products, Cigarette Papers or Cigarette Tubes.

Description: Tobacco manufacturers or export warehouse proprietors are liable for tax on tobacco products removed from their premises. Tobacco products, cigarette papers and tubes may be removed without payment of tax, for specific and verifiable purposes. This form documents and verifies these removals.

Respondents: Business or other for-profit.

Estimated Number of Respondents: 221.

Estimated Burden Hours Per Respondent: 15 minutes.

Frequency of Response: On occasion.

Estimated Total Reporting Burden: 18,500 hours.

OMB Number: 1512-0162.

Form Number: ATF F 3067 (5210.9).

Type of Review: Extension.

Title: Manufacturer of Tobacco Products.

Description: This form is necessary to determine the beginning and ending inventories of tobacco products manufacturer. The inventory is recorded on this form by the proprietor and is used to determine tax liability, compliance with regulations and for protection.

Respondents: Business of other for-profit, Farms.

Estimated Number of Respondents: 34.

Estimated Burden Hours Per Respondent: 5 hours.

Frequency of Response: On occasion.

Estimated Total Reporting Burden: 170 hours.

OMB Number: 1512-0334.

Recordkeeping Requirement ID Number: ATF REC 5150/3.

Type of Review: Extension.

Title: Usual and Customary Business Records Relating to Tax-Free Alcohol.

Description: Tax-free alcohol is used for nonbeverage purposes by educational organizations, hospitals, laboratories, etc. Records maintain spirits accountability and protect tax revenue and public safety.

Respondents: Not-for-profit institutions, Federal Government, State, Local or Tribal Government.

Estimated Number of Recordkeepers: 4,560.

Estimated Burden Hours Per Recordkeeper: 1 hour.

Estimated Total Recordkeeping Burden: 1 hour.

OMB Number: 1512-0336.

Recordkeeping Requirement ID Number: ATF REC 5150/2.

Type of Review: Extension.

Title: Letterhead Applications and Notices Relating Denatured Spirits.

Description: Denatured spirits are used for nonbeverage industrial purposes in the manufacture of personal/household products. Permits/Applications control the authorized uses and flow. Tax revenue and public safety is protected.

Respondents: Business or other for-profit, Not-for-profit institutions, State, Local or Tribal Government.

Estimated Number of Recordkeepers: 3,111.

Estimated Burden Hours Per Recordkeeper: 30 minutes.

Frequency of Response: On occasion.

Estimated Total Recordkeeping Burden: 1,556 hours.

OMB Number: 1512-0358.

Recordkeeping Requirement ID Number: ATF REC 5210/1.

Type of Review: Extension.

Title: Tobacco Products Manufacturers—Records of Operations.

Description: Tobacco Products manufacturers must maintain a system of records that provide accountability over the tobacco products received and produced. Needed to ensure tobacco transactions to be traced, and ensure that tax liabilities have been totally satisfied.

Respondents: Business or other for-profit.

Estimated Number of Recordkeepers: 108.

Estimated Burden Hours Per Recordkeeper: 150 hours.

Frequency of Response: On occasion.

Estimated Total Recordkeeping Burden: 16,200 hours.

OMB Number: 1512-0368.

Recordkeeping Requirement ID Number: ATF REC 5230/1.

Type of Review: Extension.

Title: Tobacco Products Importer or Manufacturer—Records of Large Cigar Wholesale Prices.

Description: This record is maintained by manufacturers and importers of large cigars. Because the tax on large cigars is based on the sales price, this record is needed to verify that the correct tax has been determined by manufacturer or importer.

Respondents: Business of other for-profit.

Estimated Number of Recordkeepers: 108.

Estimated Burden Hours Per Recordkeeper: 2 hours, 30 minutes.

Frequency of Response: On occasion.

Estimated Total Recordkeeping Burden: 252 hours.

Clearance Officer: Frank Bowers (202) 927-8930, Bureau of Alcohol, Tobacco and Firearms, Room 3200, 650 Massachusetts Avenue, N.W., Washington, DC 20226.

OMB Reviewer: Alexander T. Hunt (202) 395-7860, Office of Management and Budget, Room 10202, New Executive Office Building, Washington, DC 20503.

Lois K. Holland,
Departmental Reports Management Officer.

[FR Doc. 00-24681 Filed 9-25-00; 8:45 am]

BILLING CODE 4810-31-U